DEPARTMENT OF VETERANS AFFAIRS

[OMB Control No. 2900-New]

Agency Information Collection (Nonprofit Research and Education Corporations (NPCs) Data Collection) Activity Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before September 29, 2011.

ADDRESSES: Submit written comments on the collection of information through http://www.Regulations.gov; or to VA's OMB Desk Officer, OMB Human Resources and Housing Branch, New Executive Office Building, Room 10235, Washington, DC 20503 (202) 395-7316. Please refer to “OMB Control No. 2900-New” in any correspondence.

FOR FURTHER INFORMATION CONTACT: Denise McLamb, Enterprise Records Service (005R1B), Department of Veterans Affairs, 810 Vermont Avenue, NW., Washington, DC 20420, (202) 461-7485, fax (202) 461-0966 or e-mail denise.mclamb@va.gov. Please refer to “OMB Control No. 2900-New.”

SUPPLEMENTARY INFORMATION: Titles: Nonprofit Research and Education Corporations (NPCs) Data Collection:

a. Nonprofit Research and Education Corporations (NPCs) PC Annual Report Template, VA Form 10-0510.

b. Nonprofit Research and Education Corporations (NPCs) Audit Actions Items Remediation Plans, VA Form 10-0510a.

c. Nonprofit Program Office (NPPO) Internal Control Questionnaire, VA Form 10-0510b.

d. Nonprofit Program Office (NPPO) Operations Oversight Questionnaire, VA Form 10-0510c.

OMB Control Number: 2900-New.

Type of Review: In use without an OMB number.

Abstracts:

a. VA Form 10-0510 is used to monitor the progress of NPC programs.

b. VA Form 10-0510a is used to review the NPC's resolutions for audit deficiencies and recommendations.

c. VA Form 10-0510b is used to conduct reviews, audits, and investigations of the NPCs. The questionnaire will also be used to uncover weaknesses and lapses in internal controls.

d. VA Form 10-0510c, or portions of it, will be used to conduct operational reviews of the NPCs. The major objective of the questionnaire is to uncover operating problems and areas that need improvement.

An agency may not conduct or sponsor, and a person is not required to respond to a collection of information unless it displays a currently valid OMB control number. The Federal Register Notice with a 60-day comment period soliciting comments on this collection of information was published on June 8, 2011, at pages 33416-33417.

Affected Public: Federal Government.

Estimated Annual Burden:

a. Nonprofit Research and Education Corporations (NPCs) PC Annual Report Template, VA Form 10-0510—301 hours.

b. Nonprofit Research and Education Corporations (NPCs) Audit Actions Items Remediation Plans, VA Form 10-0510a—84 hours.

c. Nonprofit Program Office (NPPO) Internal Control Questionnaire, VA Form 10-0510b—387 hours.

d. Nonprofit Program Office (NPPO) Operations Oversight Questionnaire, VA Form 10-0510c—129 hours.

Estimated Average Burden Per Respondent:

a. Nonprofit Research and Education Corporations (NPCs) PC Annual Report Template, VA Form 10-0510—210 minutes.

b. Nonprofit Research and Education Corporations (NPCs) Audit Actions Items Remediation Plans, VA Form 10-0510a—120 minutes.

c. Nonprofit Program Office (NPPO) Internal Control Questionnaire, VA Form 10-0510b—270 minutes.

d. Nonprofit Program Office (NPPO) Operations Oversight Questionnaire, VA Form 10-0510c—90 minutes.

Frequency of Response: Annually.

Estimated Number of Respondents:

a. Nonprofit Research and Education Corporations (NPCs) PC Annual Report Template, VA Form 10-0510—86.

b. Nonprofit Research and Education Corporations (NPCs) Audit Actions Items Remediation Plans, VA Form 10-0510a—42.

c. Nonprofit Program Office (NPPO) Internal Control Questionnaire, VA Form 10-0510b—86.

d. Nonprofit Program Office (NPPO) Operations Oversight Questionnaire, VA Form 10-0510c—86.

Dated: August 24, 2011.
By direction of the Secretary.
Denise McLamb,
Program Analyst, Enterprise Records Service.

[FR Doc. 2011-22022 Filed 8-29-11; 8:45 am]

BILLING CODE 8320-01-P